DEPARTMENT OF DEFENSE

Office of the Secretary

Senior Executive Service Performance Review Board

AGENCY: Department of Defense Office of Inspector General.

ACTION: Notice.

SUMMARY: This notice announces the appointment of the members of the Senior Executive Service (SES) Performance Review Board (PRB) for the Department of Defense Office of Inspector General (DoD OIG), as required by 5 U.S.C. 4314(c)(4). The PRB provides fair and impartial review of SES performance appraisals and makes recommendations regarding performance ratings and performance awards to the Inspector General.

EFFECTIVE DATE: October 4, 2007.

FOR FURTHER INFORMATION CONTACT: Ms. Phyllis Hughes, Director, Human Capital Advisory Services, Administration and Management, DoD OIG, 400 Army Navy Drive, Arlington, VA 22202, (703) 602-4516.

SUPPLEMENTARY INFORMATION: In accordance with 5 U.S.C. 4314(c)(4), the following executives are appointed to the DoD OIG, PRB:

Charles E. Coe, Jr., Assistant Inspector General for Information Technology Audits and Computer Crime Investigations, Department of Education.

Andrew Patchan, Assistant Inspector General for Auditing, General Services Administration.

Dennis S. Schindel, Acting Inspector General, Department of the Treasury.

Linda Snider, Assistant Inspector General for Resource Management, Department of Energy.

Norbert E. Vint, Deputy Inspector General, Office of Personnel Management.

Dated: September 27, 2007.
L.M. Bynum,
Alternate OSD Federal Register Liaison Officer, Department of Defense.

[FR Doc. 07-4876 Filed 10-2-07; 8:45 am]

BILLING CODE 5001-06-M